ENVIRONMENTAL PROTECTION AGENCY

[FRL-9618-6]

Request for Nominations for Peer Reviewers for the Draft Research Report Entitled, “Investigation of Ground Water Contamination Near Pavillion, WY ”

AGENCY: Environmental Protection Agency (EPA).

ACTION: Notice.

SUMMARY: The U.S. Environmental Protection Agency (EPA) invites public nominations of scientific experts to be considered as peer reviewers for the external review of the draft research report entitled, “Investigation of Ground Water Contamination near Pavillion, Wyoming.” The draft research report was prepared by the National Risk Management Research Laboratory (NRMRL), within the EPA Office of Research and Development (ORD), and by EPA Region 8. EPA released the draft report for public comment on December 14, 2011 (see Federal Register Vol. 76, No. 240 at http://www.gpo.gov/fdsys/pkg/FR-2011-12-14/pdf/FR-2011-12-14.pdf). This draft report is not final as described in EPA's Information Quality Guidelines, and it does not represent and should not be construed to represent final Agency policy or views.

Eastern Research Group, Inc. (ERG), an EPA contractor for external peer review, will organize and conduct the external peer review. Nominees must have expertise in the areas described under “Expertise Sought” below, be free of any conflict of interest, and be available to participate in a one- to two-day peer review meeting that will take place in March or April, 2012 (exact date to be determined based on reviewer availability). ERG will consider and screen all nominated candidates against the selection criteria described under “Reviewer Selection” below. A second Federal Register notice will be published about one month prior to the external peer review meeting to provide the meeting date, location, and registration information. Additional details about the peer review process can be found at: http://cfpub.epa.gov/si/si_public_pr_agenda.cfm.

The public comment period for “Investigation of Ground Water Contamination near Pavillion, Wyoming” began December 14, 2011, and ends January 27, 2012. Peer reviewers will be provided with all public comments for their consideration as they review the research report.

DATES: Nominations for scientific peer review should be submitted via email as soon as they are available, but no later than February 17, 2012. Nominations should consist of the nominee's full name and their current email address or other contact information.

ADDRESSES: Peer reviewer nominations (including full name, email, and if available phone number) should be sent to peerreview@erg.com via email (preferred) or via facsimile at (781) 674-2906, Attn: Pavillion Peer Review.

Background: Pavillion, Wyoming is located in Fremont County, about 20 miles northwest of Riverton. The concern at the site is potential ground water contamination, based on resident complaints about smells, tastes, and adverse changes in water quality of their domestic wells. ORD and Region 8 have been collaborating to conduct a ground water investigation to better understand the basic ground water hydrology and how the constituents of concern may be occurring in the aquifer. A draft research report entitled “Investigation of Ground Water Contamination near Pavillion, Wyoming” was released on December 8, 2011. Prior to the release of the draft report, a public meeting was held November 9, 2011, to discuss findings and interpretations of data from the Pavillion site. The draft report and further information can be found at http://www.epa.gov/region8/superfund/wy/pavillion/.

Expertise Sought: EPA is seeking candidates who are nationally and/or internationally recognized scientists and/or engineers, who can conduct a scientifically thorough and unbiased review of the document. Any qualified person may be nominated to be considered for this peer review. Individuals may self-nominate.

Candidates must have a medium to high degree of experience and expertise (and numerous publications, research projects, or field experience) in one or more of the following areas:

—Petroleum Engineering (Natural gas, oil).

—Petroleum Geology (Particularly in hydraulic fracturing and well-testing mechanical integrity).

—Hydrology/hydrogeology (In or near drilling areas).

—Geophysics, Environmental Engineering (As related to drilling and its effects).

—Water Quality (Studies of contaminated ground water, etc.).

—Organic/Inorganic Chemistry and Geochemistry (Chemical fate and transport, oxidation/reduction reactions, hydraulic fracturing chemistry and/or gas-liquid exchange and solubility).

—Conducting laboratory and/or field research on physical and biogeochemical processes in subsurface environments.

—Conducting computer-based research on physical and biogeochemical processes in subsurface environments.

—Conducting laboratory and/or field-based research in hydraulic fracturing.

—Conducting peer reviews of scientific and/or technical research studies and results for scientific/technical journal publications.

Reviewer Selection: ERG will contact each nominee via email to request that they send to ERG a copy of their CV, fill out a calendar of availability, complete a detailed conflict-of-interest form, and fill out an expertise form. ERG will carefully consider all candidates nominated through this process and will conduct a parallel search for experts to assemble as broad a pool of initial candidates as possible. ERG will then screen all candidates against the criteria listed below to determine their suitability as peer reviewers. From among candidates who most strongly meet the selection criteria, ERG will select a final set of five to seven reviewers who, collectively, best provide expertise spanning the multiple areas listed above and, to the extent feasible, best provide a balance of perspectives.

Selection Criteria

—Demonstrated scientific credentials and disciplinary expertise in their field including:

○ Scientific credentials equivalent to a Ph.D. or P.E., Sc.D

○ Authorship on original publications and/or reviews in peer-reviewed scientific journals.

○ Significant professional accomplishments and recognition by professional societies.

—Absence of financial conflicts of interest.

—Absence of an appearance of lack of impartiality.

—Willingness and availability to commit time to the scientific peer review and to meet all required deadlines.

—Background experiences that would contribute to the diversity of perspectives of the peer reviewers.

FOR FURTHER INFORMATION CONTACT: Rebecca Foster, U.S. Environmental Protection Agency, P.O. Box 1198, Ada, OK 74821; telephone: (580) 436-8750: facsimile: (580) 436-8529; or email: foster.rebecca@epa.gov. To send Peer Review nomination, see ADDRESSES section above.

Dated: January 5, 2012.
Cynthia Sonich-Mullin,
Director, National Risk Management Research Laboratory.

[FR Doc. 2012-716 Filed 1-13-12; 8:45 am]

BILLING CODE 6560-50-P